DEPARTMENT OF HEALTH AND HUMAN SERVICES

Food and Drug Administration

Joint Meeting of the Anti-Infective Drugs Advisory Committee and the Drug Safety and Risk Management Advisory Committee; Amendment of Notice

AGENCY: Food and Drug Administration, HHS.

ACTION: Notice.

The Food and Drug Administration (FDA) is announcing an amendment to the notice of joint meeting of the Anti-Infective Drugs Advisory Committee and the Drug Safety and Risk Management Advisory Committee. This meeting was announced in the Federal Register of November 15, 2006 (71 FR 66545). The amendment is being made to reflect a change in the Location portion of the document. There are no other changes.

FOR FURTHER INFORMATION CONTACT: Sohail Mosaddegh, Center for Drug Evaluation and Research (HFD-21), Food and Drug Administration, 5600 Fishers Lane (for express delivery, 5630 Fishers Lane, rm. 1093) Rockville, MD 20857, 301-827-7001, fax: 301-827-6776, e-mail: sohail.mosaddegh@fda.hhs.gov, or FDA Advisory Committee Information Line, 1-800-741-8138 (301-443-0572 in the Washington DC area), codes 301-451-2530 or 301-451-2535. Please call the Information Line for up-to-date information on this meeting.

SUPPLEMENTARY INFORMATION: In the Federal Register of November 15, 2006, FDA announced that a joint meeting of Anti-Infective Drugs Advisory Committee and the Drug Safety and Risk Management Advisory Committee would be held on December 14 and 15, 2006. On page 66545, in the first column, the Location portion of document is amended to read as follows:

Location: Hilton, Maryland Ballrooms, 8727 Colesville Road, Silver Spring, MD. The hotel phone number is 301-589-5200.

This notice is issued under the Federal Advisory Committee Act (5 U.S.C. app. 2) and 21 CFR part 14, relating to the advisory committees.

Dated: November 29, 2006.
Randall W. Lutter,
Associate Commissioner for Policy and Planning.

[FR Doc. E6-20538 Filed 12-5-06; 8:45 am]

BILLING CODE 4160-01-S